NATIONAL AERONAUTICS AND SPACE ADMINISTRATION

14 CFR Part 1214

RIN 2700-AC40

Code of Conduct for the International Space Station Crew

AGENCY: National Aeronautics and Space Administration (NASA).

ACTION: Interim final rule.

SUMMARY: NASA is issuing new regulations entitled “International Space Station Crew,” to implement certain provisions of the International Space Station (ISS) Intergovernmental Agreement (IGA) regarding ISS crewmembers' observance of an ISS Code of Conduct.

DATES: Effective Date: October 1, 2000.

FOR FURTHER INFORMATION CONTACT: John F. Hall, Jr., Senior Counsel (Commercial and International), 202-358-2432.

SUPPLEMENTARY INFORMATION: On January 29, 1998, the United States formally joined with fourteen nations in an unprecedented international partnership for cooperative space exploration and development, known as the ISS. The Agreement Among the Government of Canada, Governments of Member States of the European Space Agency, the Government of Japan, the Government of the Russian Federation, and the Government of the United States of America Concerning Cooperation on the Civil International Space Station, which forms the foundation of the ISS partnership, provides in Article 11, that each partner, in exercising its right to provide ISS crew, shall ensure that its crewmembers observe a Code of Conduct to be developed and approved by the partners for the maintenance of order and conduct of crew activities in or on the Space Station.

At the present time, the Governments of the United States, Japan, and Canada have deposited instruments indicating their adherence to the IGA, and upon deposition of a similar instrument by the Government of the Russian Federation, the IGA will become operative. The signatory governments to the IGA (with the exception of three governments of the European Partner governments) have also signed a Provisional Arrangement committing themselves to abide by the terms and conditions of the IGA pending its formal entry into force.

In accordance with the underlying ISS Memoranda of Understanding (MOU) and other agreements concluded between NASA and each of the ISS partners and other participating states, the ISS Code of Conduct is intended to: establish a clear chain of command on-orbit; establish a clear relationship between ground and on-orbit management; establish a management hierarchy; set forth standards for work and activities in space, and, as appropriate, on the ground; establish responsibilities with respect to elements and equipment; set forth disciplinary regulations; establish physical and information security guidelines; and define the ISS Commander's authority and responsibility, on behalf of all the Partners, to enforce safety procedures, physical and information security procedures, and crew rescue procedures for the ISS.

Consistent with the provisions of the IGA and MOU's, and in order to ensure that NASA-provided ISS crewmembers are apprised of and observe the ISS Crew Code of Conduct, this interim final rule establishes a requirement that each such crewmember observe the Code of Conduct for the ISS Crew. Certain NASA-provided ISS crewmembers are further required to enter into an agreement with NASA in which they agree to accept and be governed by the standards specified in the ISS Crew Code of Conduct. This requirement is in addition to other responsibilities to which certain ISS crewmembers may be subject, including obligations regarding Space Shuttle standards of conduct agreements. Nothing in the ISS Code of Conduct or this rule limits or modifies the rights and obligations of NASA-provided ISS crewmembers under the Constitution or laws of the United States.

Additionally, this rule amends the title of 14 CFR part 1214, from “Space Shuttle” to “Space Flight,” in order to more accurately reflect the scope of the provisions contained therein, including subpart 1214.4, as added by this rule.

Since this action is administrative in nature and involves Agency policy management procedures, no public comment period is required.

This rule is not subject to the requirements of the Regulatory Flexibility Act, since it will not exert a significant economic impact on a substantial number of small entities.

This rule is not a major rule as defined in Executive Order 12866.

List of Subjects in 14 CFR Part 1214

Code of conduct, Crewmembers, Exploration, Government employees, Government procurement, Security measures, Space transportation and exploration.

For the reasons set out in the preamble, 14 CFR Chapter V is amended as follows:

1. The title of Part 1214 is revised to read as follows:

PART 1214—SPACE FLIGHT

2. Subpart 1214.4 is added to read as follows:

Subpart 1214.4—International Space Station Crew

Sec.
1214.400 Scope.
1214.401 Applicability.
1214.402 International Space Station crewmember responsibilities.
1214.403 Code of Conduct for the International Space Station Crew.
1214.404 Violations.

Authority: 42 U.S.C. sections 2455, 2473, and 2475; 18 U.S.C. 799.

§ 1214.400 Scope.

(a) This subpart sets forth policy and procedures with respect to International Space Station crewmembers provided by NASA for flight to the International Space Station.

(b) In order to provide for the safe operation, maintenance of order, and proper conduct of crew aboard the International Space Station, the January 29, 1998, Agreement Among the Government of Canada, Governments of Member States of the European Space Agency, the Government of Japan, the Government of the Russian Federation, and the Government of the United States of America Concerning Cooperation on the Civil International Space Station (hereinafter Agreement), which establishes and governs the International Space Station, requires the development and approval of a Code of Conduct for International Space Station crew. Pursuant to Article 11 of the Agreement, each International Space Station partner is obliged to ensure that crewmembers which it provides observe the Code of Conduct.

§ 1214.401 Applicability.

This subpart applies to all persons provided by NASA for flight to the International Space Station, including U.S. Government employees, uniformed members of the Armed Services, U.S. citizens who are not employees of the U.S. Government, and foreign nationals.

§ 1214.402 International Space Station crewmember responsibilities.

(a) All NASA-provided International Space Station crewmembers are subject to specified standards of conduct, including those prescribed in the Code of Conduct for the International Space Station Crew, set forth as § 1214.403. NASA-provided International Space Station crew members may be subject to additional standards and requirements, as determined by NASA, which will be made available to those NASA-provided crewmembers, as appropriate.

(1) NASA-provided International Space Station crewmembers who are not citizens of the United States will be required to enter into an agreement with NASA in which they agree to comply with specified standards of conduct, including those prescribed in the Code of Conduct for the International Space Station Crew (§ 1214.403). Any such agreement will be signed on behalf of NASA by the NASA General Counsel or designee.

(2) NASA-provided International Space Station crewmembers who are citizens of the United States but are not employees of the U.S. Government will be required to enter into an agreement with NASA in which they agree to comply with specified standards of conduct, including those prescribed in the Code of Conduct for the International Space Station Crew (§ 1214.403). Any such agreement will be signed on behalf of NASA by the NASA General Counsel or designee.

(3) NASA-provided International Space Station crewmembers who are employed by a branch, department, or agency of the U.S. Government may, as determined by the NASA General Counsel, be required to enter into an agreement with NASA to comply with specified standards of conduct, including those prescribed in the Code of Conduct for the International Space Station Crew (§ 1214.403). Any such agreement will be signed on behalf of NASA by the NASA General Counsel or designee.

(b) All NASA-provided personnel on board the International Space Station are additionally subject to the authority of the International Space Station Commander and shall comply with Commander's orders and directions.

§ 1214.403 Code of Conduct for the International Space Station Crew.

The Code of Conduct for the International Space Station Crew, which sets forth minimum standards for NASA-provided International Space Station crewmembers, is as follows:

Code of Conduct for the International Space Station Crew

I. Introduction

A. Authority

This Code of Conduct for the International Space Station (ISS) crew, hereinafter referred to as Crew Code of Conduct (CCOC), is established pursuant to:

(1) Article 11 (Crew) of the intergovernmental Agreement Among the Government of Canada, Governments of Member States of the European Space Agency, the Government of Japan, the Government of the Russian Federation, and the Government of the United States of America Concerning Cooperation on the Civil International Space Station (the IGA) signed by the Partner States on January 29, 1998; and

(2) Article 11 (Space Station Crew) of the Memoranda of Understanding between, respectively, the National Aeronautics and Space Administration of the United States of America (NASA) and the Canadian Space Agency (CSA), NASA and the European Space Agency (ESA), NASA and the Government of Japan (GOJ), and NASA and the Russian Space Agency (RSA) Concerning Cooperation on the Civil International Space Station (the MOU's), which require, inter alia, that the crew Code of Conduct be developed by the partners.

B. Scope and Content

The partners have developed and approved this CCOC to: establish a clear chain of command on-orbit; establish a clear relationship between ground and on-orbit management; and establish a management hierarchy; set forth standards for work and activities in space, and, as appropriate, on the ground; establish responsibilities with respect to elements and equipment; set forth disciplinary regulations; establish physical and information security guidelines; and define the ISS Commander's authority and responsibility, on behalf of all the partners, to enforce safety procedures, physical and information security procedures and crew rescue procedures for the ISS. This CCOC and the disciplinary policy referred to in Section IV shall not limit the application of Article 22 of the IGA. This CCOC succeeds the NASA-RSA Interim Code of Conduct, which was developed pursuant to Article 11.2 of the MOU between NASA and RSA to cover early assembly prior to other partners' flight opportunities.

This CCOC sets forth the standards of conduct applicable to all ISS crewmembers during preflight, on-orbit, and post-flight activities, (including launch and return phases). ISS crewmembers are subject to additional requirements, such as the ISS Flight Rules, the disciplinary policy, and requirements imposed by their Cooperating Agency or those relating to the Earth-to-Orbit Vehicle (ETOV) transporting an ISS crewmember. Each ISS crewmember has a right to know about such additional requirements. ISS crewmembers will also abide by the rules of the institution hosting the training, and by standards and requirements defined by the Multilateral Crew Operations Panel (MCOP), the Multilateral Space Medicine Board (MSMB) and the Multilateral Medical Operations Panel (MMOP). Each ISS crewmember will be informed by the Cooperating Agency providing him or her of the responsibilities of ISS crewmembers under the IGA, the MOU's and this CCOC. Further, each ISS crewmember will be educated by the Cooperating Agency providing him or her through the crew training curriculum and normal program operations as to ISS program rules, operational directives and management policies. Completion of postflight activities shall not affect an ISS crewmember's continuing obligations under Section V of this CCOC.

C. Definitions

For the purposes of the CCOC:

(1) “Cooperating Agency” means NASA, CSA, ESA, Rosaviakosmos (formerly RSA) and, in the case of Japan, the Science and Technology Agency of Japan (STA) and, as appropriate, the National Space Development Agency of Japan (NASDA), assisting agency to STA.

(2) “Crew Surgeon” means a Flight Surgeon assigned by the MMOP to any given expedition. He or she is the lead medical officer and carries primary responsibility for the health and well-being of the entire ISS crew.

(3) “Disciplinary policy” means the policy developed by the MCOP to address violations of the CCOC and impose disciplinary measures.

(4) “ETOV” means Earth-to-Orbit Vehicle travelling between Earth and the ISS.

(5) “Flight Director” means the Flight Director in control of the ISS.

(6) “Flight Rules” means the set of rules used by the Cooperating Agencies to govern flight operations.

(7) “ISS crewmembers” means any person approved for flight to the ISS, including both ISS expedition crew and visiting crew, beginning upon assignment to the crew for a specific and ending upon completion of the postflight activities related to the mission.

II. General Standards

A. Responsibilities of ISS Crewmembers

ISS Crewmembers shall comply with the CCOC. Accordingly, during preflight, on-orbit, and postflight activities, they shall comply with the ISS Commander's orders, all Flight and ISS program Rules, operational directives, and management policies, as applicable. These include those related to safety, health, well-being, security, and other operational or management matters governing all aspects of ISS elements, equipment, payloads and facilities, and non-ISS facilities, to which they have access. All applicable rules, regulations, directives, and policies shall be made accessible to ISS crewmembers through appropriate means, coordinated by the MCOP.

B. General Rules of Conduct

ISS Crewmembers' conduct shall be such as to maintain a harmonious and cohesive relationship among the ISS crewmembers and an appropriate level of mutual confidence and respect through an interactive, participative, and relationship-oriented approach which duly takes into account the international and multicultural nature of the crew and mission.

No ISS crewmember shall, by his or her conduct, act in a manner which results in or creates the appearance of: (1) Giving undue preferential treatment to any person or entity in the performance of ISS activities; and/or (2) adversely affecting the confidence of the public in the integrity of, or reflecting unfavorably in a public forum on, any ISS partner, partner state or Cooperating Agency.

ISS crewmembers shall protect and conserve all property to which they have access for ISS activities. No such property shall be altered or removed for any purpose other than those necessary for the performance of ISS duties. Before altering or removing any such property, ISS crewmembers shall first obtain authorization from the Flight Director, except as necessary to ensure the immediate safety of ISS crewmembers or ISS elements, equipment, or payloads.

C. Use of Position

ISS crewmembers shall refrain from any use of the position of ISS crewmember that is motivated, or has the appearance of being motivated, by private gain, including financial gain, for himself or herself or other persons or entities. Performance of ISS duties shall not be considered to be motivated by private gain. Furthermore, no ISS crewmember shall use the position of ISS crewmember in any way to coerce, or give the appearance of coercing, another person to provide any financial benefit to himself or herself or other persons or entities.

D. Mementos and Personal Effects

Each ISS crewmember may carry and store mementos, including flags, patches, insignia, and similar small items of minor value, onboard the ISS, for his or her private use, subject to the following:

(1) mementos are permitted as a courtesy, not an entitlement; as such they shall be considered as ballast as opposed to a payload or mission requirement and are subject to manifest limitations, on-orbit stowage allocations, and safety considerations;

(2) mementos may not be sold, transferred for sale, used or transferred for personal gain, or used or transferred for any commercial or fundraising purpose. Mementos which, by their nature, lend themselves to exploitation by the recipients, or which, in the opinion of the Cooperating Agency providing the ISS crewmember, engender questions as to good taste, will not be permitted.

An ISS crewmember's personal effects, such as a wristwatch, will not be considered mementos. Personal effects of any nature may be permitted, subject to constraints of mass/volume allowances for crew personal effects, approval of the ISS crewmember's Cooperating Agency, and approval of the transporting Cooperating Agency and considerations of safety and good taste.

If a Cooperating Agency carries and stores items onboard the ISS in connection with separate arrangements, these items will not be considered mementos of the ISS crewmembers.

III. Authority and Responsibilities of the ISS Commander, Chain of Command and Succession Onorbit; Relationship Between Ground and On-Orbit Management

A. Authority and Responsibilities of the ISS Commander

The ISS Commander, as an ISS crewmember, is subject to the standards detailed elsewhere in this CCOC, in addition to the command-specific provisions set forth below:

The ISS Commander will seek to maintain a harmonious and cohesive relationship among the ISS crewmembers and an appropriate level of mutual confidence and respect through an interactive, participative, and relationship-oriented approach which duly takes into account the international and multicultural nature of the crew and mission.

For avoidance of doubt, nothing in this Section shall affect the ability of the MCOP to designate the national of any Partner State as an ISS Commander.

(1) During Preflight and Postflight Activities

The ISS Commander is the leader of the crew and is responsible for forming the individual ISS crewmembers into a single, integrated team. During preflight activities, the ISS Commander, to the extent of his or her authority, leads the ISS crewmembers through the training curriculum and mission-preparation activities and seeks to ensure that the ISS crewmembers are adequately prepared for the mission, acting as the crew's representative to the ISS program's training, medical, operations, and utilization authorities. During postflight activities, the ISS Commander coordinates as necessary with these authorities to ensure that the ISS crewmembers complete the required postflight activities.

(2) During On-Orbit Operations

(a) General

The ISS Commander is responsible for and will, to the extent of his or her authority and the ISS on-orbit capabilities, accomplish the mission program implementation and ensure the safety of the ISS crewmembers and the protection of the ISS elements, equipment, or payloads.

(b) Main Responsibilities

The ISS Commander's main responsibilities are to: (1) Conduct operations in or on the ISS as directed by the Flight Director and in accordance with the Flight Rules, plans and procedures; (2) direct the activities of the ISS crewmembers as a single, integrated team to ensure the successful completion of the mission; (3) fully and accurately inform the Flight Director, in a timely manner, of the ISS vehicle configuration, status, commanding, and other operational activities on-board (including off-nominal or emergency situations); (4) enforce procedures for the physical and information security of operations and utilization data; (5) maintain order; (6) ensure crew safety, health and well-being including crew rescue and return; and (7) take all reasonable action necessary for the protection of the ISS elements, equipment, or payloads.

(c) Scope of Authority

During all phases of on-orbit activity, the ISS Commander, consistent with the authority of the Flight Director, shall have the authority to use any reasonable and necessary means to fulfill his or her responsibilities. This authority, which shall be exercised consistent with the provisions of Sections II and IV, extends to: (1) the ISS elements, equipment, and payloads; (2) the ISS crewmembers; (3) activities of any kind occurring in or on the ISS; and (4) data and personal effects in or on the ISS where necessary to protect the safety and well-being of the ISS crewmembers and the ISS elements, equipment, and payloads. Any matter outside the ISS Commander's authority shall be within the purview of the Flight Director.

Issues regarding the Commander's use of such authority shall be referred to the Flight Director as soon as practicable, who will refer the matter to appropriate authorities for further handling. Although other ISS crewmembers may have authority over and responsibility for certain ISS elements, equipment, payloads, or tasks, the ISS Commander remains ultimately responsible, and solely accountable, to the Flight Director for the successful completion of the activities and the mission.

B. Chain of Command and Succession On-orbit

(1) The ISS Commander is the highest authority among the ISS crewmembers on-orbit. The MCOP will determine the order of succession among the ISS crewmembers in advance of flight, and the Flight Rules set forth the implementation of a change of command.

(2) Relationship of the ISS Commander to ETOV and Other Commanders

The Flight Rules define the authority of the ETOV Commander, the Rescue Vehicle Commander, and any other commanders, and set forth the relationship between their respective authorities and the authority of the ISS Commander.

C. Relationship Between the ISS Commander (On-Orbit Management) and the Flight Director (Ground Management)

The Flight Director is responsible for directing the mission. A Flight Director will be in charge of directing real-time ISS operations at all time. The ISS Commander, working under the direction of the Flight Director and in accordance with the Flight Rules, is responsible for conducting on-orbit operations in the manner best suited to the effective implementation of the mission. The ISS Commander, acting on his or her own authority, is entitled to change the daily routine of the ISS crewmembers where necessary to address contingencies, perform urgent work associated with crew safety and the protection of the ISS elements, equipment or payloads, or conduct critical flight operations. Otherwise, the ISS Commander should implement the mission as directed by the Flight Director. Specific roles and responsibilities of the ISS Commander and the Flight Director are described in the Flight Rules. The Flight Rules outline decisions planned in advance of the mission and are designed to minimize the amount of real-time discussion required during mission operations.

IV. Disciplinary Regulations

ISS crewmembers will be subject to the disciplinary policy developed and revised as necessary by the MCOP and approved by the Multilateral Coordination Board (MCB). The MCOP has developed an initial disciplinary policy which has been approved by the MCB. The disciplinary policy is designed to maintain order among the ISS crewmembers during preflight, on-orbit and postflight activities. The disciplinary policy is administrative in nature and is intended to address violations of the CCOC. Such violations may, inter alia, affect flight assignments as an ISS crewmember. The disciplinary policy does not limit a Cooperating Agency's right to apply relevant laws, regulations, policies, and procedures to the ISS crewmembers it provides, consistent with the IGA and the MOU's.

V. Physical and Information Security Guidelines

The use of all equipment and goods to which ISS crewmembers have access shall be limited to the performance of ISS duties. Marked or otherwise identified as export controlled data and marked proprietary data obtained by an ISS crewmember in the course of ISS activities shall only be used in the performance of his or her ISS duties. With respect to data first generated on-board the ISS, the ISS crewmembers will be advised by the appropriate Cooperating Agency or by the data owner or provider through that Cooperating Agency as to the proprietary or export-controlled nature of the data and will be directed to mark and protect such data and to continue such protection for as long as the requirements for such protection remain in place. Additionally, ISS crewmembers shall act in a manner consistent with the provisions of the IGA and the MOU's regarding protection of operations data, utilization data, and the intellectual property of ISS users. They shall also comply with applicable ISS program rules, operational directives, and management policies designed to further such protections.

Personal information about ISS crewmembers, including all medical information, private family conference, or other private information, whether from verbal, written, or electronic sources, shall not be used or disclosed by other ISS crewmembers for any purpose, without the consent of the affected ISS crewmember, except as required for the immediate safety of ISS crewmembers or the protection of ISS elements, equipment, or payloads. In particular, all personal medical information, whether derived from medical monitoring, investigations, or medical contingency events, shall be treated as private medical information and shall be transmitted in a private and secure fashion in accordance with procedures to be set forth by the MMOP. Medical data which must be handled in this fashion includes, for example, biomedical telemetry, private medical communications, and medical investigation data. Nothing in this paragraph shall be interpreted to limit an ISS crewmember's access to all medical resources aboard the ISS, to ground-based medical support services, or to his or her own medical data during preflight, on-orbit, and postflight activities.

VI. Protection of Human Research Subjects

No research on human subjects shall be conducted which could, with reasonable foresight, be expected to jeopardize the life, health, physical integrity, or safety of the subject.

No research procedures shall be undertaken with any ISS crewmember as a human subject without: (1) written approval by the Human Research Multilateral Review Board (HRMRB) and (2) the full written and informed consent of the human subject. Each such approval and consent shall be obtained prior to the initiation of such research, and shall fully comply with the requirements of the HRMRB. The HRMRB is responsible for procedures for initiation of new experiments on-orbit when all consent requirements have been met, but the signature of the human subject cannot be obtained; explicit consent of the human subject will nonetheless be required in all such cases. Subjects volunteering for human research protocols may at their own discretion, and without providing a rationale, withdraw their consent for participation at any time, without prejudice, and without incurring disciplinary action. In addition, approval or consent for any research may be revoked at any time, including after the commencement of the research, by: the HRMRB, the Crew Surgeon, the Flight Director, or the ISS Commander, as appropriate, if the research would endanger the ISS Crew Member or otherwise threaten the mission success. A decision to revoke consent by the human subject or approval by the other entities listed above will be final.

§ 1214.404 Violations.

This subpart is a regulation within the meaning of 18 U.S.C. 799, and whoever willfully violates, attempts to violate, or conspires to violate any provision of this subpart or any order or direction issued under this subpart may be cited for violating title 18 of the U.S. Code and could be fined or imprisoned not more than 1 year, or both.

Daniel S. Goldin,
Administrator.

[FR Doc. 00-32381 Filed 12-20-00; 8:45 am]

BILLING CODE 7510-01-P